DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.). Written data or comments should be submitted to the Director, U.S. Fish and Wildlife Service, Division of Management Authority, 4401 North Fairfax Drive, Room 700, Arlington, Virginia 22203 and must be received by the Director within 30 days of the date of this publication.

Applicant: Los Angeles Zoo, Los Angeles, CA, PRT-306429

The applicant request a permit to import two (1.1) red uakari (Cacajao calvus) from the Centro de Primatologia do Rio de Janeiro, San Cristovao, Brazil for the purpose of enhancement of the survival of the species through captive propagation.

Applicant: Douglass M. Eberhardt, Stockton, CA, PRT-037012.

The applicant request a permit to import the sport-hunted trophy of one male bontebok (Damaliscus pygargus dorcas) culled from a captive herd maintained under the management program of the Republic of South Africa, for the purpose of enhancement of the survival of the species.

Applicant: Reed Lewis, Plymouth, MN, PRT-037030

The applicant requests a permit to import the sport-hunted trophy of one male bontebok (Damaliscus pygargus dorcas) culled from a captive herd maintained under the management program of the Republic of South Africa, for the purpose of enhancement of the survival of the species.

Marine Mammals

The public is invited to comment on the following application(s) for a permit to conduct certain activities with marine mammals. The application(s) was submitted to satisfy requirements of the Marine Mammal Protection Act of 1972, as amended (16 U.S.C. 1361 et seq.) and the regulations governing marine mammals (50 CFR 18).

Written data, comments, or requests for copies of these complete applications or requests for a public hearing on these applications should be sent to the U.S. Fish and Wildlife Service, Division of Management Authority, 4401 N. Fairfax Drive, Room 700, Arlington, Virginia 22203, telephone 703/358-2104 or fax 703/358-2281. These requests must be received within 30 days of the date of publication of this notice. Anyone requesting a hearing should give specific reasons why a hearing would be appropriate. The holding of such a hearing is at the discretion of the Director.

Applicant: Gene Perry, Malta, MT, PRT-037029

The applicant requests a permit to import a polar bear (Ursus maritimus) sport-hunted from the Western Hudson Bay polar bear population in Canada for personal use.

Applicant: John Dow, Horseheads, NY PRT-037143.

The applicant requests a permit to import a polar bear (Ursus maritimus) sport-hunted from the Northern Beaufort polar bear population in Canada for personal use.

Applicant: Stephen Fullmer, Salt Lake City, UT, PRT-036997

The applicant requests a permit to import a polar bear (Ursus maritimus) sport-hunted from the Western Hudson Bay polar bear population in Canada for personal use.

The U.S. Fish and Wildlife has information collection approval from OMB through February 28, 2001. OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents to the following office within 30 days of the date of publication of this notice: U.S. Fish and Wildlife Service, Division of Management Authority, 4401 North Fairfax Drive, Room 700, Arlington, Virginia 22203. Phone: (703/358-2104); Fax: (703/358-2281).

Dated: December 15, 2000.
Anna Barry,
Branch of Permits, Division of Management Authority.

[FR Doc. 00-32495 Filed 12-20-00; 8:45 am]

BILLING CODE 4310-55-P